ENVIRONMENTAL PROTECTION AGENCY

[FRL-9193-9]

Meeting of the Mobile Sources Technical Review Subcommittee

AGENCY: Environmental Protection Agency (EPA).

ACTION: Notice of meeting.

SUMMARY: Pursuant to the Federal Advisory Committee Act, Public Law 92-463, notice is hereby given that the Mobile Sources Technical Review Subcommittee (MSTRS) will meet in October 2010. The MSTRS is a subcommittee under the Clean Air Act Advisory Committee. This is an open meeting. The meeting will include discussion of current topics and presentations about activities being conducted by EPA's Office of Transportation and Air Quality. The preliminary agenda for the meeting and any notices about change in venue will be posted on the Subcommittee's Web Site: http://www.epa.gov/air/caaac/mobile_sources.html. MSTRS listserver subscribers will receive notification when the agenda is available on the Subcommittee web site. To subscribe to the MSTRS listserver, send a blank e-mail to lists-mstrs@lists.epa.gov.

DATES: Tuesday, October 5, 2010 from 9 a.m. to 4 p.m. Registration begins at 8:30 a.m.

ADDRESSES: The meeting is tentatively scheduled to be held at EPA's National Vehicle Fuels and Emissions Laboratory (NVFEL), 2000 Traverwood, Ann Arbor, Michigan 48105. However, this date and location are subject to change and interested parties should monitor the Subcommittee Web site for the latest logistical information.

FOR FURTHER INFORMATION CONTACT: For technical information: John Guy, Designated Federal Officer, Transportation and Regional Programs Division, Mailcode 6403J, U.S. EPA, 1200 Pennsylvania Ave., NW., Washington, DC 20460; Ph: 202-343-9276; e-mail: guy.john@epa.gov. For logistical and administrative information: Ms. Cheryl Jackson, U.S. EPA, Transportation and Regional Programs Division, Mailcode 6405J, U.S. EPA, 1200 Pennsylvania Ave. NW., Washington, DC 20460; 202-343-9653; e-mail: jackson.cheryl@epa.gov.

Background on the work of the Subcommittee is available at: http://www.epa.gov/air/caaac/mobile_sources.html. Individuals or organizations wishing to provide comments to the Subcommittee should submit them to Mr. Guy at the address above by September 27, 2010. The Subcommittee expects that public statements presented at its meetings will not be repetitive of previously submitted oral or written statements.

SUPPLEMENTARY INFORMATION: During the meeting, the Subcommittee may also hear progress reports from some of its workgroups as well as updates and announcements on activities of general interest to attendees.

For Individuals With Disabilities: For information on access or services for individuals with disabilities, please contact Mr. Guy or Ms. Jackson (see above). To request accommodation of a disability, please contact Mr. Guy or Ms. Jackson, preferably at least 10 days prior to the meeting, to give EPA as much time as possible to process your request.

Dated: August 23, 2010.
Margo Tsirigotis Oge,
Director, Office of Transportation and Air Quality.

[FR Doc. 2010-21391 Filed 8-26-10; 8:45 am]

BILLING CODE 6560-50-P